ENVIRONMENTAL PROTECTION AGENCY

[EPA-HQ-OPPT-2016-0481; FRL-9950-88]

Certain New Chemicals; Receipt and Status Information for July 2016

AGENCY: Environmental Protection Agency (EPA).

ACTION: Notice.

SUMMARY: EPA is required under the Toxic Substances Control Act (TSCA) to publish in the Federal Register a notice of receipt of a premanufacture notice (PMN); an application for a test marketing exemption (TME), both pending and/or expired; and a periodic status report on any new chemicals under EPA review and the receipt of notices of commencement (NOC) to manufacture those chemicals. This document covers the period from July 1, 2016 to July 29, 2016.

DATES: Comments identified by the specific case number provided in this document, must be received on or before September 23, 2016.

ADDRESSES: Submit your comments, identified by docket identification (ID) number EPA-HQ-OPPT-2016-2016-0481, and the specific PMN number or TME number for the chemical related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: For technical information contact: Jim Rahai, IMD, 7407M, Office of Pollution Prevention and Toxics, Environmental Protection Agency, 1200 Pennsylvania Ave. NW., Washington, DC 20460-0001; telephone number: (202) 564-8593; email address: rahai.jim@epa.gov.

For general information contact: The TSCA-Hotline, ABVI-Goodwill, 422 South Clinton Ave. Rochester, NY 14620; telephone number: (202) 554-1404; email address: TSCA-Hotline@epa.gov.

SUPPLEMENTARY INFORMATION:

I. General Information

A. Does this action apply to me?

This action is directed to the public in general. As such, the Agency has not attempted to describe the specific entities that this action may apply to. Although others may be affected, this action applies directly to the submitters of the actions addressed in this document.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the agency taking?

This document provides receipt and status reports, which cover the period from July 1, 2016 to July 29, 2016, and consists of the PMNs and TMEs both pending and/or expired, and the NOCs to manufacture a new chemical that the Agency has received under TSCA section 5 during this time period.

III. What is the agency's authority for taking this action?

Under TSCA, 15 U.S.C. 2601 et seq., EPA classifies a chemical substance as either an “existing” chemical or a “new” chemical. Any chemical substance that is not on EPA's TSCA Inventory is classified as a “new chemical,” while those that are on the TSCA Inventory are classified as an “existing chemical.” For more information about the TSCA Inventory, please go to: http://www.epa.gov/opptintr/newchems/pubs/inventory.htm.

Anyone who plans to manufacture or import a new chemical substance for a non-exempt commercial purpose is required by TSCA section 5 to provide EPA with a PMN, before initiating the activity. Section 5(h)(1) of TSCA authorizes EPA to allow persons, upon application, to manufacture (includes import) or process a new chemical substance, or a chemical substance subject to a significant new use rule (SNUR) issued under TSCA section 5(a), for “test marketing” purposes, which is referred to as a test marketing exemption, or TME. For more information about the requirements applicable to a new chemical go to: http://www.epa.gov/oppt/newchems.

Under TSCA sections 5(d)(2) and 5(d)(3), EPA is required to publish in the Federal Register a notice of receipt of a PMN or an application for a TME and to publish in the Federal Register periodic reports on the status of new chemicals under review and the receipt of NOCs to manufacture those chemicals.

IV. Receipt and Status Reports

As used in each of the tables in this unit, (S) indicates that the information in the table is the specific information provided by the submitter, and (G) indicates that the information in the table is generic information because the specific information provided by the submitter was claimed as CBI.

For the 58 PMNs received by EPA during this period, Table 1 provides the following information (to the extent that such information is not claimed as CBI): The EPA case number assigned to the PMN; the date the PMN was received by EPA; the projected end date for EPA's review of the PMN; the submitting manufacturer/importer; the potential uses identified by the manufacturer/importer in the PMN; and the chemical identity.

Table 1—PMNs Received From July 1, 2016 to July 29, 2016
Case No. | Date received | Projected end date for EPA review | Manufacturer/ importer | Use(s) | Chemical identity
P-16-0165 | 7/26/2016 | 10/24/2016 | Dura Chemicals, Inc | (S) Iron, 2-ethylhexanoate propionate complexes is a component in a metal organic product that will be used in paint and ink driers, UPR promoters, lube/grease additives, fuel additives, polymerization catalysts, specialty petrochemical catalysts, etc., the amount of the iron, 2-ethyhexanoate propionate complexes will be well under 1% in any final product | (S) Iron, 2- ethylhexanoate propionate complexes.
P-16-0186 | 7/12/2016 | 10/10/2016 | CBI | (G) Surfactant | (G) Sodium branched chain alkyl hydroxyl and branched chain alkenyl sulfonates.
P-16-0206 | 7/13/2016 | 10/11/2016 | CBI | (G) Pigment wetting and dispersing additive | (G) Formaldehyde ketone condensate polymer.
P-16-0313 | 7/5/2016 | 10/3/2016 | Honeyol, Inc | (S) Use in production of resins raw material used in the production of resins | (S) Tar acids (shale oil), c6-9 fraction, alkylphenols, low-boiling.
P-16-0358 | 7/20/2016 | 10/18/2016 | CBI | (S) Intermediate for further polymer reaction | (G) Alkyl phenol.
P-16-0414 | 7/1/2016 | 9/29/2016 | CBI | (S) Polymerized pigment used in the manufacture of electronic inks | (G) Dimethylsiloxane methyl methacrylate copolymer.
P-16-0427 | 7/8/2016 | 10/6/2016 | CBI | (G) Adhesive | (G) Alkanedioic acid polymer with ethenylbenzene alky-2-alkenoate, alkanediol, .alpha. ????????????-hydro-.omega.-hydroxypoly[oxyalkyl-alkanediyl)], hydroxyalkyl-alkyl-alkenoate, and aromatic isocyanate.
P-16-0438 | 7/15/2016 | 10/13/2016 | CBI | (S) Intermediate for pesticide inert | (S) 3-butenenitrile, 2-(acetyloxy).
P-16-0446 | 7/8/2016 | 10/6/2016 | Allnex, USA, Inc | (S) Resin in architectural primer coatings | (G) Fatty acids, reaction products with alkylamine, polymers with substituted carbomonocycle, substituted alkylamines, heteromonocycle and substituted alkanoate, lactates (salts).
P-16-0450 | 7/21/2016 | 10/19/2016 | CBI | (G) Plasticizer | (S) 1,2,4-benzenetricarboxylic acid, 1,2,4-trinonyl ester.
P-16-0451 | 7/8/2016 | 10/6/2016 | Evonik Corporation | (G) Binder in coatings | (G) Siloxane binder.
P-16-0455 | 7/13/2016 | 10/11/2016 | CBI | (S) Component of Infrared absorption material | (G) Mixed metal oxide.
P-16-0456 | 7/7/2016 | 10/5/2016 | Kemira Chemicals | (S) Flocculant used to treat mining tailings | (S) 2-propenoic acid, calcium salt (2:1), polymer with 2-propenamide.
P-16-0457 | 7/7/2016 | 10/5/2016 | Kemira Chemicals | (S) Flocculant used to treat mining tailings | (S) Ethanaminium, n,n,n-trimethly-2-[(1-oxo-2-propen-1-yl)oxyl-, chloride (1:1), polymer with calcium 2-propenoate (1:2) and 2-propenamide.
P-16-0458 | 7/6/2016 | 10/4/2016 | CBI | (G) Odor control agent | (G) Dialkyldimethyl ammonium salt.
P-16-0459 | 7/14/2016 | 10/12/2016 | CBI | (G) Printing additive | (G) Carbomonocyclic dicarboxylic acid, polymer with alkanedioic acid, substituted heteropolycycle, substituted carbomonocycle, alkyl alkenoate, alkanedioic acid, alkoxylated substituted dicarbomonocycle, alkoxylated substituted dicarbomonocycle, alkenoic acid, oxo alkyl initiated.
P-16-0460 | 7/12/2016 | 10/10/2016 | CBI | (G) Process aid | (G) Silane-treated aluminosilicate.
P-16-0461 | 7/12/2016 | 10/10/2016 | CBI | (G) Process aid | (G) Silane-treated aluminosilicate.
P-16-0462 | 7/12/2016 | 10/10/2016 | CBI | (G) Process aid | (G) Silane-treated aluminosilicate.
P-16-0463 | 7/12/2016 | 10/10/2016 | CBI | (G) Process aid | (G) Silane-treated aluminosilicate.
P-16-0464 | 7/12/2016 | 10/10/2016 | CBI | (G) Process aid | (G) Silane-treated aluminosilicate.
P-16-0465 | 7/11/2016 | 10/9/2016 | CBI | (G) Surfactant | (G) Perfluoroalkyl ammonium chloride.
P-16-0466 | 7/11/2016 | 10/9/2016 | CBI | (G) Additive open non-dispersive use | (G) 2,5-furandione, telomer with ethenylbenzene and (alkylethyl)benzene, amides with polyethylene-polypropylene glycol aminoalkyl me ether, alkali salts.
P-16-0467 | 7/13/2016 | 10/11/2016 | CBI | (S) Intermediate for a polyurethane catalyst | (G) Propanenitrile, polyalkylpolyamine.
P-16-0468 | 7/14/2016 | 10/12/2016 | Gelest | (S) Research | (S) Silsesquioxanes, 3,3,4,4,5,5,6,6,7,7,8,8,8-ridecafluorooctyl.
P-16-0468 | 7/14/2016 | 10/12/2016 | Gelest | (S) The new substance will be used as a modifier for various polymeric coatings with applications in for example automotive fuel lines microelectronic housing coatings | (S) Silsesquioxanes, 3,3,4,4,5,5,6,6,7,7,8,8,8-tridecafluorooctyl.
P-16-0468 | 7/14/2016 | 10/12/2016 | Gelest | (S) The new material is to be used as a modifier for polymeric systems to make specialty coatings for applications in automotive fuel lines and other parts, as well as coatings for microelectronic housing industrial and oil and gas equipment. the amount of the new substance is estimate to be about 20mg per square meter of a coating | (S) Silsesquioxanes, 3,3,4,4,5,5,6,6,7,7,8,8,8-tridecafluorooctyl.
P-16-0469 | 7/14/2016 | 10/12/2016 | Gelest | (S) The new material is to be used as a modifier for polymeric systems to make specialty coatings for applications in automotive fuel lines and other parts, as well as coatings for microelectronic housing, industrial and oil and gas equipment. the amount of the new substance is estimate to be about 20mg per square meter of a coating | (S) Silsesquioxanes, 3,3,4,4,5,5,6,6,7,7,8,8,8-tridecafluorooctyl.
P-16-0469 | 7/14/2016 | 10/12/2016 | Gelest | (S) Research | (S) Silsesquioxanes, 3,3,4,4,5,5,6,6,7,7,8,8,8-tridecafluorooctyl.
P-16-0469 | 7/14/2016 | 10/12/2016 | Gelest | (S) The new substance will be used as a modifier for various polymeric coatings with applications in, for example automotive fuel lines microelectronic housing coatings | (S) Silsesquioxanes, 3,3,4,4,5,5,6,6,7,7,8,8,8-tridecafluorooctyl.
P-16-0470 | 7/14/2016 | 10/12/2016 | Firmenich, Inc. | (G) As part of a fragrance formula | (S) 2,7-nonadien-4-ol, 4,8-dimethyl-.
P-16-0477 | 7/27/2016 | 10/25/2016 | Ethox Chemicals, LLC | (G) Lubricant | (G) Polyalkylene oxide phosphate, oleyl ether.
P-16-0478 | 7/15/2016 | 10/13/2016 | CBI | (S) Chemical intermediate | (G) Fatty acid amidoamine.
P-16-0478 | 7/15/2016 | 10/13/2016 | CBI | (S) Additive for flotation products | (G) Fatty acid amidoamine.
P-16-0478 | 7/15/2016 | 10/13/2016 | CBI | (S) Use in asphalt formulations adhesion promoter or emulsifier | (G) Fatty acid amidoamine.
P-16-0479 | 7/15/2016 | 10/13/2016 | CBI | (S) Chemical intermediate | (G) Fatty acid amidoamine.
P-16-0479 | 7/15/2016 | 10/13/2016 | CBI | (S) Additive for flotation products | (G) Fatty acid amidoamine.
P-16-0479 | 7/15/2016 | 10/13/2016 | CBI | (S) Use in asphalt formulations adhesion promoter or emulsifier | (G) Fatty acid amidoamine.
P-16-0480 | 7/15/2016 | 10/13/2016 | CBI | (S) Additive for flotation products | (G) Fatty acid amidoamine.
P-16-0480 | 7/15/2016 | 10/13/2016 | CBI | (S) Chemical intermediate | (G) Fatty acid amidoamine.
P-16-0480 | 7/15/2016 | 10/13/2016 | CBI | (S) Use in asphalt formulations adhesion promoter or emulsifier | (G) Fatty acid amidoamine.
P-16-0481 | 7/15/2016 | 10/13/2016 | CBI | (S) Use in asphalt formulations adhesion promoter or emulsifier | (G) Fatty acid amidoamine.
P-16-0481 | 7/15/2016 | 10/13/2016 | CBI | (S) Additive for flotation products | (G) Fatty acid amidoamine.
P-16-0481 | 7/15/2016 | 10/13/2016 | CBI | (S) Chemical intermediate | (G) Fatty acid amidoamine.
P-16-0482 | 7/15/2016 | 10/13/2016 | CBI | (S) Chemical intermediate | (G) Fatty acid amidoamine.
P-16-0482 | 7/15/2016 | 10/13/2016 | CBI | (S) Use in asphalt formulations adhesion promoter or emulsifier | (G) Fatty acid amidoamine.
P-16-0482 | 7/15/2016 | 10/13/2016 | CBI | (S) Additive for flotation products | (G) Fatty acid amidoamine.
P-16-0483 | 7/18/2016 | 10/16/2016 | CBI | (G) Plastic additive | (G) Inorganic acids, metal salts, compds. with modified heteroaromatics.
P-16-0484 | 7/18/2016 | 10/16/2016 | CBI | (G) Chemical intermediate | (G) Inorganic acid, metal salt, compd. with substituted aromatic heterocycle.
P-16-0485 | 7/18/2016 | 10/16/2016 | CBI | (G) NCS is a colorant component used in coatings open non-dispersive use | (G) Butanedioic diester.
P-16-0486 | 7/18/2016 | 10/16/2016 | CBI | (G) Isolated intermediate in the production of a refrigerant precursor | (G) Polychloropropane.
P-16-0488 | 7/20/2016 | 10/18/2016 | CBI | (G) Binder for fibrous materials | (G) Alkenoic acid, polymer with hydrolyzed acid anhydride, compds. with alkanolamine.
P-16-0492 | 7/27/2016 | 10/25/2016 | CBI | (G) Polymeric dye carrier | (G) Polyester-amide polymer of 'isophthalic acid' with diamino-alkane, cyclohexane-dialcohol, alkanetriol, di-isocyanate and acrylic acid-ethylene co-polymer.
P-16-0493 | 7/27/2016 | 10/25/2016 | CBI | (G) Paint | (G) Polyurethane/acrylic grafted copolymer, dimethylaminoethanol salt.
P-16-0494 | 7/25/2016 | 10/23/2016 | CBI | (G) Adhesive for electrical industry use | (G) Carboxylated styrene butadiene polymer.
P-16-0497 | 7/26/2016 | 10/24/2016 | CBI | (G) Prepolymer | (G) Urethane prepolymer.
P-16-0498 | 7/27/2016 | 10/25/2016 | CBI | (G) Open non-dispersive | (G) Hydroxy acrylic polymer, lactates.
P-16-0501 | 7/29/2016 | 10/27/2016 | Reagens, USA, Inc | (S) PVC stabilizer | (S) Di(m-2,2',2”-nitrilotris(ethanol)-diperchlorato)dinatrium.

For the 20 NOCs received by EPA during this period, Table 2 provides the following information (to the extent that such information is not claimed as CBI): The EPA case number assigned to the NOC; the date the NOC was received by EPA; the projected date of commencement provided by the submitter in the NOC; and the chemical identity.

Table 2—NOCs Received From July 1, 2016 to July 29, 2016
Case No. | Date received | Projected date of commencement | Chemical identity
J-16-0003 | 7/25/2016 | 7/1/2016 | (S) Saccharomyces cerevisiae, modified.
P-11-0243 | 7/13/2016 | 3/12/2016 | (G) Alkanedioic acid polymer with alkanediol and diisocyanatohexane.
P-12-0149 | 7/18/2016 | 7/29/2013 | (G) Distillation bottoms from manufacture or brominated cycloalkanes.
P-12-0273 | 7/25/2016 | 6/23/2016 | (S) Coconut oil, polymer with di-me malonate, pentaerythritol, phthalic anhydride and trimethylolpropane.
P-13-0162 | 7/6/2016 | 3/7/2014 | (G) Substituted cyclopentadienyl silico aluminoxanes.
P-13-0595 | 7/13/2016 | 7/28/2015 | (G) Oxirane, alkyl -, polymer with oxirane, hydrogen sulfate, alkyl ethers, alkali metal salts.
P-13-0884 | 7/7/2016 | 6/20/2016 | (S) 1,3'-bipyridinium, 1'-[3-(dimethylamino)propyl]-6'-hydroxy-4'-methyl-2'-oxo-, inner salt.
P-14-0834 | 7/11/2016 | 7/8/2016 | (S) Cyclohexane, 1,1'-methylenebis[4-isocyanato-, homopolymer, 2-butoxyethanol- and polyethylene glycol mono-me ether-blocked.
P-15-0393 | 7/13/2016 | 9/21/2015 | (G) Alkanedioic acid, polymer with alkanediol .alpha.-hydro-.omega.-hydroxypoly[oxy(alkyl)] and alkyl aromatic diisocyanate.
P-15-0535 | 7/13/2016 | 7/11/2016 | (G) Propanoic acid, 3-hydroxy-2-(hydroxymethyl)-2-methyl-, compds. with hydroxylamine-blocked polymethylenepolyphenylene isocyanate-polymeric diol.
P-15-0634 | 7/13/2016 | 6/27/2016 | (S) 2-butanone, 4-(dodecylthio)-4-[2,6,6-trimethyl-1(or 2)-cyclohexen-1-yl]-.
P-16-0042. | 7/6/2016 | 6/16/2016 | (G) Polyammonium salt of a fatty acid.
P-16-0047 | 7/15/2016 | 6/15/2016 | (G) Aromatic polyimide.
P-16-0047 | 7/15/2016 | 6/16/2016 | (G) Aromatic polyimide.
P-16-0104 | 7/25/2016 | 7/18/2016 | (S) 2-pyridinecarboxylic acid, 4,5-dichloro-6-(4-chloro-2-fluoro-3-methoxyphenyl).
P-16-0133 | 7/15/2016 | 6/19/2016 | (S) 1,4-benzenedicarboxylic acid, polymer with 2-methyl-1,8-octanediamine and 1,9-nonanediamine, reaction products with benzoic acid.
P-16-0133 | 7/15/2016 | 6/20/2016 | (S) 1,4-benzenedicarboxylic acid, polymer with 2-methyl-1,8-octanediamine and 1,9-nonanediamine, reaction products with benzoic acid.
P-16-0179 | 7/14/2016 | 7/1/2016 | (G) Alkanoic acids, esters with alkanetriol.
P-16-0243 | 7/25/2016 | 7/19/2016 | (S) Propanedioic acid, 1,3-diethyl ester polymer with 2,2-dimethyl-1,3-propanediol and hexahydro-1,3-isobenzofurandione.
P-16-0270 | 7/8/2016 | 7/5/2016 | (G) Derivative of substituted acrylamides copolymer.

Authority: 15 U.S.C. 2601 et seq.

Dated: August 17, 2016.
Pamela S. Myrick,
Acting Information Management Division, Office of Pollution Prevention and Toxics.

[FR Doc. 2016-20303 Filed 8-23-16; 8:45 am]

BILLING CODE 6560-50-P